COMMITTEE FOR PURCHASE FROM PEOPLE WHO ARE BLIND OR SEVERELY DISABLED

Correction to Requirements

In the document appearing on page 13165/13166, FR Doc E5-1192, in the issue of March 18, 2005, in the third column on page 13165 and the first column on page 13166, the Committee published a proposed addition of Gloves, Flyers' Summer Type GS/FRP-2; GS/FPP-2 (Exigency or surge requirements up to 240,000 pairs annually which are over and above the current contractors' requirements for a period up to September 2007). The requirements information is changed to ready 36,000 annually and the comment period is extended until May 15, 2005 to give interested parties as chance to comment. Comments should be sent to Sheryl D. Kennerly, telephone: (703) 603-7740, Fax: (703) 603-0655, or e-mail SKennerly@jwod.gov.

Patrick Rowe,
Deputy Executive Director.

[FR Doc. 05-7567 Filed 4-14-05; 8:45 am]

BILLING CODE 6353-01-P